DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Boulder (FEMA Docket No.: B-2040) | City of Longmont (19-08-1079P). | The Honorable Brian Bagley, Mayor, City of Longmont, 350 Kimbark Street, Longmont, CO 80501. | Public Works and Natural Resources Department, 350 Kimbark Street, Longmont, CO 80501. | Sep. 17, 2020 | 080027
Boulder (FEMA Docket No.: B-2040) | Unincorporated areas of Boulder County (19-08-1079P). | The Honorable Deb Gardner, Chair, Boulder County Board of Commissioners, P.O. Box 471, Boulder, CO 80306. | Boulder County Transportation Department, 2525 13th Street, Suite 203, Boulder, CO 80304. | Sep. 17, 2020 | 080023
Broomfield (FEMA Docket No.: B-2040) | City and County of Broomfield (19-08-0374P). | The Honorable Patrick Quinn, Mayor, City and County of Broomfield, 1 DesCombes Drive, Broomfield, CO 80020. | Engineering Department, 1 DesCombes Drive, Broomfield, CO 80020. | Sep. 25, 2020 | 085073
Jefferson (FEMA Docket No.: B-2040) | City of Westminster (19-08-0374P). | The Honorable Herb Atchison, Mayor, City of Westminster, 4880 West 92nd Avenue, Westminster, CO 80031. | City Hall, 4880 West 92nd Avenue, Westminster, CO 80031. | Sep. 25, 2020 | 080008
Connecticut:
New Haven (FEMA Docket No.: B-2042) | Town of Guilford (20-01-0537P). | The Honorable Matthew T. Hoey, III, First Selectman, Town of Guilford Board of Selectmen, 31 Park Street, Guilford, CT 06437. | Engineering Department, 50 Boston Street, Guilford, CT 06437. | Sep. 18, 2020 | 090077
New Haven (FEMA Docket No.: B-2042) | Town of Guilford (20-01-0575P). | The Honorable Matthew T. Hoey, III, First Selectman, Town of Guilford Board of Selectmen, 31 Park Street, Guilford, CT 06437. | Engineering Department, 50 Boston Street, Guilford, CT 06437. | Sep. 25, 2020 | 090077
Florida:
Clay (FEMA Docket No.: B-2043) | Unincorporated areas of Clay County (20-04-0028P). | The Honorable Gayward Hendry, Chairman, Clay County Board of Commissioners, P.O. Box 1366, Green Cove Springs, FL 32043. | Clay County Development Services Department, 477 Houston Street, Green Cove Springs, FL 32043. | Sep. 25, 2020 | 120064
Collier (FEMA Docket No.: B-2042) | City of Naples (20-04-1989P). | The Honorable Teresa L. Heitmann, Mayor, City of Naples, 735 8th Street South, Naples, FL 34102. | Building Department, 295 Riverside Circle, Naples, FL 34102. | Sep. 22, 2020 | 125130
Collier (FEMA Docket No.: B-2043) | Unincorporated areas of Collier County (20-04-1400P). | Mr. Burt L. Saunders, Chairman, Collier County Board of Commissioners, 3299 Tamiami Trail East, Suite 303, Naples, FL 34112. | Collier County Growth Management Department, 2800 North Horseshoe Drive, Naples, FL 34104. | Sep. 25, 2020 | 120067
Lee (FEMA Docket No.: B-2043) | City of Sanibel (19-04-6092P). | The Honorable Kevin Ruane, Mayor, City of Sanibel, 800 Dunlop Road, Sanibel, FL 33957. | Community Services Department, 800 Dunlop Road, Sanibel, FL 33957. | Sep. 25, 2020 | 120402
Miami-Dade (FEMA Docket No.: B-2040) | City of Miami (20-04-1579P). | The Honorable Francis X. Suarez, Mayor, City of Miami, 3500 Pan American Drive, Miami, FL 33130. | Building Department, 444 Southwest 2nd Street, 4th Floor, Miami, FL 33130. | Sep. 24, 2020 | 120650
Monroe (FEMA Docket No.: B-2043) | Unincorporated areas of Monroe County (20-04-2043P). | The Honorable Heather Carruthers, Mayor, Monroe County Board of Commissioners, 500 Whitehead Street, Suite 102, Key West, FL 33040. | Monroe County Building Department, 2798 Overseas Highway, Suite 300, Marathon, FL 33050. | Sep. 21, 2020 | 125129
Osceola (FEMA Docket No.: B-2043) | Unincorporated areas of Osceola County (19-04-6034P). | The Honorable Viviana Janer, Chair, Osceola County Board of Commissioners, 1 Courthouse Square, Suite 4700, Kissimmee, FL 34741. | Osceola County Stormwater Department, 1 Courthouse Square, Suite 3100, Kissimmee, FL 34741. | Sep. 25, 2020 | 120189
Pasco (FEMA Docket No.: B-2040) | Unincorporated areas of Pasco County (19-04-4754P). | Mr. Dan Biles, Pasco County Administrator, 8731 Citizens Drive, New Port Richey, FL 34654. | Pasco County Administration Building, 8731 Citizens Drive, New Port Richey, FL 34654. | Sep. 17, 2020 | 120230
Sarasota (FEMA Docket No.: B-2040) | City of Sarasota (20-04-2087P). | The Honorable Jennifer Ahearn-Koch, Mayor, City of Sarasota, 1565 1st Street, Room 101, Sarasota, FL 34236. | Development Services Department, 1565 1st Street, Sarasota, FL 34236. | Sep. 24, 2020 | 125150
Sarasota (FEMA Docket No.: B-2040) | Unincorporated areas of Sarasota (20-04-1981P). | The Honorable Charles D. Hines, Chairman, Sarasota County Board of Commissioners, 1660 Ringling Boulevard, Sarasota, FL 34236. | Sarasota County Planning and Development Services Department, 1001 Sarasota Center Boulevard, Sarasota, FL 34240. | Sep. 21, 2020 | 125144
Sarasota (FEMA Docket No.: B-2040) | Unincorporated areas of Sarasota (20-04-1982P). | The Honorable Charles D. Hines, Chairman, Sarasota County Board of Commissioners, 1660 Ringling Boulevard, Sarasota, FL 34236. | Sarasota County Planning and Development Services Department, 1001 Sarasota Center Boulevard, Sarasota, FL 34240. | Sep. 21, 2020 | 125144
Sumter (FEMA Docket No.: B-2040) | Unincorporated areas of Sumter County (20-04-1391P). | The Honorable Steve Printz, Chairman, Sumter County Board of Commissioners, 7375 Powell Road, Wildwood, FL 34785. | Sumter County Development Department, 7375 Powell Road, Wildwood, FL 34785. | Sep. 25, 2020 | 120296
Georgia: Richmond (FEMA Docket No.: B-2040) | City of Augusta (19-04-6591P). | The Honorable Hardie Davis, Jr., Mayor, City of Augusta, 535 Telfair Street, Suite 200, Augusta, GA 30901. | Planning and Development Department, 535 Telfair Street, Suite 300, Augusta, GA 30901. | Sep. 25, 2020 | 130158
Kentucky: Christian (FEMA Docket No.: B-2042) | City of Hopkinsville (19-04-5960P). | The Honorable Wendell Lynch, Mayor, City of Hopkinsville, 715 South Virginia Street, Hopkinsville, KY 42240. | Community and Development Services Department, 710 South Virginia Street, Hopkinsville, KY 42240. | Sep. 18, 2020 | 210055
Maine: Lincoln (FEMA Docket No.: B-2042) | Town of Boothbay Harbor (20-01-0236P). | Ms. Julia Latter, Manager, Town of Boothbay Harbor, 11 Howard Street, Boothbay Harbor, ME 04538. | Code Enforcement Department, 11 Howard Street, Boothbay Harbor, ME 04538. | Sep. 25, 2020 | 230213
Massachusetts: Essex (FEMA Docket No.: B-2043) | Town of Rockport (20-01-0536P). | The Honorable Paul F. Murphy, Chairman, Town of Rockport Board of Selectmen, 34 Broadway, Rockport, MA 01966. | Department of Inspection Services, 34 Broadway, Rockport, MA 01966. | Sep. 17, 2020 | 250100
New Mexico:
Bernalillo (FEMA Docket No.: B-2040) | City of Albuquerque (19-06-3069P). | The Honorable Timothy M. Keller, Mayor, City of Albuquerque, P.O. Box 1293, Albuquerque, NM 87103. | Development Review Services Division, 600 2nd Street Northwest, Suite 201, Albuquerque, NM 87102. | Sep. 21, 2020 | 350002
Bernalillo (FEMA Docket No.: B-2040) | Unincorporated areas of Bernalillo County (19-06-3069P). | Ms. Julie Morgas Baca, Bernalillo County Manager, 1 Civic Plaza Northwest, 10th Floor, Albuquerque, NM 87102. | Bernalillo County Public Works Division, 2400 Broadway Boulevard Southeast, Albuquerque, NM 87102. | Sep. 21, 2020 | 350001
Pennsylvania:
Lackawanna (FEMA Docket No.: B-2023) | Borough of Jermyn (20-03-0330P). | The Honorable Frank Kulick, President, Borough of Jermyn Council, 440 Jefferson Avenue, Jermyn, PA 18433. | Borough Hall, 440 Jefferson Avenue, Jermyn, PA 18433. | Aug. 6, 2020 | 420530
Lackawanna (FEMA Docket No.: B-2023) | Borough of Mayfield (20-03-0330P). | The Honorable Alexander J. Chelik, Mayor, Borough of Mayfield, 739 Penn Avenue, Mayfield, PA 18433. | Borough Hall, 739 Penn Avenue, Mayfield, PA 18433. | Aug. 6, 2020 | 420532
Lackawanna (FEMA Docket No.: B-2023) | Township of Carbondale (20-03-0330P). | The Honorable Paul Figliomeni, Chairman, Township of Carbondale Board of Supervisors, 103 School Street, Childs, PA 18407. | Township Hall, 103 School Street, Childs, PA 18407. | Aug. 6, 2020 | 421750
Texas:
Bastrop (FEMA Docket No.: B-2040) | City of Bastrop (20-06-1063P). | The Honorable Connie Schroeder, Mayor, City of Bastrop, P.O. Box 427, Bastrop, TX 78602. | City Hall, 1311 Chestnut Street, Bastrop, TX 78602. | Sep. 21, 2020 | 480022
Bastrop (FEMA Docket No.: B-2040) | Unincorporated areas of Bastrop County (20-06-1063P). | The Honorable Paul Pape, Bastrop County Judge, 804 Pecan Street, Bastrop, TX 78602. | Bastrop County Engineering and Development Department, 211 Jackson Street, Bastrop, TX 78602. | Sep. 21, 2020 | 481193
Denton (FEMA Docket No.: B-2040) | City of The Colony (19-06-3392P). | Mr. Troy Powell, Manager, City of The Colony, 6800 Main Street, The Colony, TX 75056. | Engineering Department, 6800 Main Street, The Colony, TX 75056. | Sep. 21, 2020 | 481581
Ellis (FEMA Docket No.: B-2040) | City of Red Oak (20-06-0057P). | Mr. Todd Fuller, Manager, City of Red Oak, 200 Lakeview Parkway, Red Oak, TX 75154. | Engineering and Community Development Department, 411 West Red Oak Road, Red Oak, TX 75154. | Sep. 24, 2020 | 481650
Ellis (FEMA Docket No.: B-2040) | Unincorporated areas of Ellis County (20-06-0057P). | The Honorable Todd Little, Ellis County Judge, 101 West Main Street, Waxahachie, TX 75165. | Ellis County Engineering Department, 109 South Jackson Street, Waxahachie, TX 75165. | Sep. 24, 2020 | 480798
Harris (FEMA Docket No.: B-2040) | Unincorporated areas of Harris County (19-06-1346P). | The Honorable Lina Hidalgo, Harris County Judge, 1001 Preston Street, Suite 911, Houston, TX 77002. | Harris County Permit Department, 10555 Northwest Freeway, Suite 120, Houston, TX 77092. | Sep. 21, 2020 | 480287
Tarrant (FEMA Docket No.: B-2040) | City of Arlington (19-06-3156P). | The Honorable Jeff Williams, Mayor, City of Arlington, P.O. Box 90231, Arlington, TX 76004. | City Hall, 101 West Abram Street, Arlington, TX 76010. | Sep. 17, 2020 | 485454
Tarrant (FEMA Docket No.: B-2040) | City of Euless (20-06-0048P). | The Honorable Linda Martin, Mayor, City of Euless, 201 North Ector Drive, Euless, TX 76039. | Planning and Engineering Department, 201 North Ector Drive, Euless, TX 76039. | Sep. 24, 2020 | 480593

[FR Doc. 2020-23614 Filed 10-23-20; 8:45 am]

BILLING CODE 9110-12-P